NUCLEAR REGULATORY COMMISSION

[NRC-2025-0001]

Sunshine Act Meetings

TIME AND DATE: Weeks of February 3, 10, 17, 24, March 3, and March 10, 2025. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of February 3, 2025

Thursday, February 6, 2025

9:00 a.m. Briefing on ADVANCE Act Activities (Public Meeting) (Contact: Mike King: 301-415-6637; Luis Betancourt: 301-415-6146)

Additional Information: The meeting will be held in the Commissioners' Hearing Room, 11555 Rockville Pike, Rockville, Maryland. The public is invited to attend the Commission's meeting in person or watch live via webcast at the Web address— https://video.nrc.gov/.

Week of February 10, 2025—Tentative

There are no meetings scheduled for the week of February 10, 2025.

Week of February 17, 2025—Tentative

There are no meetings scheduled for the week of February 17, 2025.

Week of February 24, 2025—Tentative

There are no meetings scheduled for the week of February 24, 2025.

Week of March 3, 2025—Tentative

There are no meetings scheduled for the week of March 3, 2025.

Week of March 10, 2025—Tentative

There are no meetings scheduled for the week of March 10, 2025.

CONTACT PERSON FOR MORE INFORMATION: For more information or to verify the status of meetings, contact Chris Markley at 301-415-6293 or via email at Christopher.Markley@nrc.gov.

The NRC is holding the meetings under the authority of the Government in the Sunshine Act, 5 U.S.C. 552b.

Dated: January 29, 2025.
For the Nuclear Regulatory Commission.
Christopher Markley,
Policy Coordinator, Office of the Secretary.

[FR Doc. 2025-02132 Filed 1-29-25; 4:15 pm]

BILLING CODE 7590-01-P